CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Pub. L. 104-13, (44 U.S.C. Chapter 35). Copies of this ICR, with applicable supporting documentation, may be obtained by calling the Corporation for National and Community Service, Ms. Amy Cohen, at (202) 606-5000, extension 209, (acohen@cns.gov); (TTY/TDD) at (202) 606-5256 between the hours of 9 a.m. and 4 p.m. Eastern Standard Time, Monday through Friday.

Comments may be submitted, identified by the title of the information collection activity, by any of the following two methods within 30 days from the date of publication in this Federal Register:

(1) By fax to: (202) 395-6974, Attention: Ms. Fumie Yokota, OMB Officer for the Corporation for National and Community Service; and

(2) Electronically by e-mail to: Fumie_Yokota@omb.eop.gov.

The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Description

The Presidential Freedom Scholarship program recognizes high school juniors and seniors for outstanding leadership in service. Each high school in the United States may award up to two recipients with a $1,000 scholarship for college: Five hundred dollars ($500) is funded from the Corporation's National Service Trust, and the remaining $500 is secured locally from civic groups, local business, and other community based organizations.

While the selection of the recipients is made by the high school, the principal must complete an application in order for the Corporation to release the funds in the form of a check made out to the student and the college that he/she is planning to attend. The application may be completed either in paper or online form.

The Corporation is seeking public comment for approval of the Presidential Freedom Scholarship Application which will be used by high school principals to nominate high school juniors and seniors for this scholarship.

Type of Review: New information collection.

Agency: Corporation for National and Community Service.

Title: Presidential Freedom Scholarship Application.

OMB Number: None.

Agency Number: None.

Affected Public: High School Principals and/or guidance counselors.

Total Respondents: 7,000.

Frequency: Annually.

Average Time Per Response: 30 minutes.

Estimated Total Burden Hours: 3,500 hours.

Total Burden Cost (capital/startup): None.

Total Burden Cost (operating/maintenance): None.

Dated: January 30, 2004.
Amy Cohen,
Director, Learn and Serve America.

[FR Doc. 04-2964 Filed 2-10-04; 8:45 am]

BILLING CODE 6050-$$-P